DEPARTMENT OF COMMERCE

Foreign-Trade Zones Board

Order No. 1400

Approval for Expansion of Subzone 87B, CITGO Petroleum Corporation (Oil Refinery), Lake Charles, Louisiana

Pursuant to its authority under the Foreign-Trade Zones Act of June 18, 1934, as amended (19 U.S.C. 81a-81u), the Foreign-Trade Zones Board (the Board) adopts the following Order:

Whereas, the Lake Charles Harbor and Terminal District, grantee of FTZ 87, has requested authority on behalf of CITGO Petroleum Corporation (CITGO), to amend the boundaries of Subzone 87B, add a site and expand the scope of authority under zone procedures within the CITGO refinery in Lake Charles, Louisiana (FTZ Docket 35-2004, filed 8/18/2004);

Whereas, notice inviting public comment has been given in the Federal Register (69 FR 52856-52857, 8/30/2004);

Whereas, the Board adopts the findings and recommendations of the examiner's report, and finds that the requirements of the FTZ Act and Board's regulations would be satisfied, and that approval of the application would be in the public interest if approval is subject to the conditions listed below;

Now, therefore, the Board hereby orders:

The application to amend the boundaries, add a site (Site 6) and expand the scope of manufacturing authority under zone procedures within Subzone 87B, is approved, subject to the FTZ Act and the Board's regulations, including § 400.28, and subject to the following conditions:

1. Foreign status (19 CFR § 146.41, 146.42) products consumed as fuel for the petrochemical complex shall be subject to the applicable duty rate.

2. Privileged foreign status (19 CFR § 146.41) shall be elected on all foreign merchandise admitted to the subzone, except that non-privileged foreign (NPF) status (19 CFR § 146.42) may be elected on refinery inputs covered under HTSUS Subheadings #2709.00.10, #2709.00.20, #2710.11.25, #2710.11.45, #2710.19.05, #2710.19.10, #2710.19.45, #2710.91.00, #2710.99.05, #2710.99.10, #2710.99.16, #2710.99.21 and #2710.99.45 which are used in the production of:

-petrochemical feedstocks (examiners report, Appendix “C”);

-products for export;

-and, products eligible for entry under HTSUS # 9808.00.30 and# 9808.00.40 (U.S. Government purchases).

Signed at Washington, DC, this 8th day of July, 2005.

Joseph A. Spetrini,
Acting Assistant Secretary for Import Administration, Alternate Chairman, Foreign-Trade Zones Board.
Attest:
Dennis Puccinelli,
Executive Secretary.

[FR Doc. 05-14076 Filed 7-15-05; 8:45 am]

BILLING CODE 3510-DS-S